FEDERAL COMMUNICATIONS COMMISSION

47 CFR Part 54

[CC Docket No. 96-45; FCC 99-306]

Federal-State Joint Board on Universal Service

AGENCY: Federal Communications Commission.

ACTION: Correcting amendments.

SUMMARY: This document contains a correction to the final regulation part 54, which was published in the Federal Register on Wednesday, December 1, 1999 (64 FR 67372). This document removes paragraph (a)(4) from § 54.307 of the Commission rules. Section 54.307 relates to the availability of high-cost universal service support to competitive eligible telecommunications carriers.

DATES: Effective June 22, 2004.

FOR FURTHER INFORMATION CONTACT: Theodore Burmeister, Attorney, Wireline Competition Bureau, Telecommunications Access Policy Division, (202) 418-7389.

SUPPLEMENTARY INFORMATION:

Background

Part 54 rules are issued pursuant to the Communications Act of 1934, as amended. The purpose of the part 54 rules is to implement section 254 of the Communications Act of 1934, as amended. 47 U.S.C. 254. This action corrects the final regulation implemented at § 54.307 of the Commission's rules. 47 CFR 54.307. Specifically, this action removes paragraph (a)(4) from § 54.307 from the Commission's rules.

Need for Correction

The December 1, 1999, Federal Register Summary (64 FR 67372) inadvertently omitted an instruction to remove paragraph (a)(4) from § 54.307. This correction is consistent with the Commission's Order published in the Federal Register Summary.

List of Subjects in 47 CFR part 54

Reporting and recordkeeping requirements, Telecommunications, Telephone.

Accordingly, 47 CFR part 54 is corrected by making the following correcting amendments:

PART 54—UNIVERSAL SERVICE

1. The authority citation for part 54 continues to read as follows:

Authority: 47 U.S.C. 1, 4(i), 201, 205, 214, and 254 unless otherwise noted.

§ 54.307 [Amended]

2. Amend § 54.307 by removing paragraph (a)(4).

Federal Communications Commission.
Marlene Dortch,
Secretary.

[FR Doc. 04-14119 Filed 6-21-04; 8:45 am]

BILLING CODE 6712-01-P